DEPARTMENT OF AGRICULTURE

Forest Service

Boundary Establishment for White Salmon Wild and Scenic River “Lower Segment”, Gifford Pinchot National Forest, Klickitat County, Washington State

AGENCY: Forest Service, USDA.

ACTION: Notice of availability.

SUMMARY: In accordance with Section 3(b) of the Wild and Scenic Rivers Act, the USDA Forest Service, Washington Office, is transmitting the final amended boundary of the White Salmon Wild and Scenic River “Lower Segment” to Congress.

FOR FURTHER INFORMATION CONTACT: Information may be obtained by contacting the following office: Columbia River Gorge National Scenic Area, 902 Wasco Avenue, Suite 200, Hood River, OR 97031-3117, (541) 308-1700.

Individuals who use telecommunication devices for the deaf (TDD) may call the Federal Information Relay Service (FIRS) at 1-800-877-8339 between 8 a.m. and 8 p.m., Eastern Time, Monday through Friday.

SUPPLEMENTARY INFORMATION: The White Salmon Wild and Scenic River “Lower Segment” boundary is available for review at the following offices: USDA Forest Service, Recreation, Yates Building, 14th and Independence Avenues SW., Washington, DC 20024; USDA Forest Service, Pacific Northwest Region, 333 SW. First Avenue, Portland, Oregon 97208-3623.

The Columbia River Gorge National Scenic Area Act (Pub. L. 99-663) of November 17, 1986, designated the White Salmon River, Washington, as a Wild and Scenic River, to be administered by the Secretary of Agriculture. As specified by law, the boundary will not be effective until ninety (90) days after Congress receives the transmittal.

Dated: September 21, 2012.
Maureen T. Hyzer,
Deputy Regional Forester.

[FR Doc. 2012-24229 Filed 10-1-12; 8:45 am]

BILLING CODE 3410-11-P